DEPARTMENT OF HOMELAND SECURITY

Federal Emergency Management Agency

[Docket ID FEMA-2012-0017; OMB No. 1660-0059]

Agency Information Collection Activities: Proposed Collection; Comment Request, National Flood Insurance Program Call Center and Agent Referral Enrollment Form

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning this information collection that allows the National Flood Insurance Program (NFIP) to facilitate the availability of flood insurance to those who have a need to purchase such. The NFIP will collect information from insurance agents who will offer the ability to purchase flood insurance, as well as from those interested in purchasing the insurance policies, so as to offer referral information on how the coverage may be obtained. If the information collection were not performed, the ability to offer respondents the resources available by the NFIP would be adversely affected.

DATES: Comments must be submitted on or before June 18, 2012.

ADDRESSES: To avoid duplicate submissions to the docket, please use only one of the following means to submit comments:

(1) Online. Submit comments at www.regulations.gov under Docket ID FEMA-2012-0017. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2012-0017 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Carolyn Goss, Program Analyst, Federal Insurance and Mitigation Administration, at (202) 212-4728 for additional information. You may contact the Records Management Division for copies of the proposed collection of information at facsimile number (202) 646-3347 or email address: FEMA-Information-Collections-Management@dhs.gov.

SUPPLEMENTARY INFORMATION: FEMA administers the National Flood Insurance Program (NFIP) in response to losses due to floods. The Flood Disaster Protection Act of 1973, Congressional Findings and Declaration of Purpose, Section 2(a)(6) finds that it is in the public interest for persons already living in flood prone areas to have both an opportunity to purchase flood insurance and access to more adequate limits of coverage in order to be indemnified for their losses in the event of future flood disasters. This collection will allow for consumers to be educated about flood insurance coverage and to assist them in obtaining such coverage.

Collection of Information

Title: National Flood Insurance Program Call Center and Agent Referral Enrollment Form.

Type of Information Collection: Revision of a currently approved information collection.

OMB Number: 1660-0059.

Form Titles and Numbers: FEMA Form 517-0-1, National Flood Insurance Program Agent Site Registration and FEMA Form 512-0-1, National Flood Insurance Program Agent Referral Questionnaire.

Abstract: The information collection serves two purposes: (1) It allows the NFIP to service requests for flood insurance information or agent referral services from potential purchasers through calls to the toll-free number or by visiting the Web site, and (2) it allows insurance agents to enroll in the Agent Referral Program and Agent Co-Op Program. If the request includes an insurance agent referral, the name and business address of insurance agents in the caller's geographic area who are enrolled in the referral service are provided.

Affected Public: Individuals or Households; Business or other for-profit; Not-for-profit institutions.

Estimated Number of Respondents: 56,645.

Frequency of Response: Annually.

Estimated Hour Burden per Respondent: FEMA Form 512-0-1, .05 hours, and FEMA Form 517-0-1, .033 hours.

Estimated Total Annual Burden Hours: 2,735 burden hours.

Estimated Cost: There are no record keeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 11, 2012.
John G. Jenkins, Jr.,
Acting Director, Records Management Division, Mission Support Bureau, Federal Emergency Management Agency, Department of Homeland Security.

[FR Doc. 2012-9343 Filed 4-17-12; 8:45 am]

BILLING CODE 9110-12-P